FEDERAL COMMUNICATIONS COMMISSION

Sunshine Act Meeting; Open Commission Meeting

August 1, 2014.

The Federal Communications Commission will hold an Open Meeting on the subjects listed below on Friday, August 8, 2014. The meeting is scheduled to commence at 10:30 a.m. in Room TW-C305, at 445 12th Street, SW., Washington, DC.

Item No. | Bureau | Subject
1 | WIRELESS TELE-COMMUNICATIONS | TITLE: 2004 and 2006 Biennial Regulatory Reviews—Streamlining and Other Revisions of Parts 1 and 17 of the Commission's Rules Governing Construction, Marking and Lighting of Antenna Structures (WT Docket No. 10-88); Amendments to Modernize and Clarify Part 17 of the Commission's Rules Concerning Construction, Marking and Lighting of Antenna Structures.
|  | SUMMARY: The Commission will consider a Report and Order to streamline and update the rules governing the construction, marking, and lighting of antenna structures. These updates will improve efficiency, reduce regulatory burdens, and enhance compliance with tower painting and lighting requirements, while continuing to ensure the safety of pilots and aircraft passengers nationwide.
2 | PUBLIC SAFETY & HOMELAND SECURITY | TITLE: Facilitating the Deployment of Text-to-911 and Other Next Generation 911 Applications (PS Docket No. 11-153); Framework for Next Generation 911 Deployment (PS Docket No. 10-255)
|  | SUMMARY: The Commission will consider a Second Report and Order and Third Further Notice of Proposed Rulemaking that establishes deadlines for covered text providers to be capable of delivering texts to appropriate 911 public safety answering points, and seeks comment on proposals to improve text-to-911 service, such as through the provision of better location information and roaming support.
* * * * * * *
CONSENT AGENDA
The Commission will consider the following subjects listed below as a consent agenda and these items will not be presented individually:
1 | MEDIA | TITLE: New Visalia Broadcasting, Inc., Former licensee of Station DKSLK(FM), Visalia, California.
|  | SUMMARY: The Commission will consider a Memorandum Opinion and Order concerning an Application for Review filed by New Visalia Broadcasting seeking review of a Media Bureau decision.
2 | MEDIA | TITLE: Nelson Multimedia, Inc. for a Major Change to the Licensed Facilities of WSPY(AM), Geneva, Illinois.
|  | SUMMARY: The Commission will consider a Memorandum Opinion and Order concerning an Application for Review filed by Nelson Multimedia seeking review of a decision by the Media Bureau dismissing its community of license change application.
3 | MEDIA | TITLE: Sunburst Media-Louisiana, LLC, Application for a Construction Permit for a Minor Change to a Licensed Facility, Station KXMG(FM), Jean Lafitte, Louisiana.
|  | SUMMARY: The Commission will consider a Memorandum Opinion and Order concerning an Application for Review filed by William Clay seeking review of a Media Bureau decision.
4 | MEDIA | TITLE: WDKA Acquisition Corporation, Licensee of Station WDKA(TV), Paducah, Kentucky.
|  | SUMMARY: The Commission will consider a Memorandum Opinion and Order concerning an Application for Review filed by WDKA Acquisition Corporation seeking review of a Forfeiture Order issued by the Media Bureau's Video Division.
5 | MEDIA | TITLE: Colonial Radio Group, Inc., Applications for Minor Modification of Construction Permits, Application for License to Cover FM Translator Station W230BO, Olean, New York.
|  | SUMMARY: The Commission will consider a Memorandum Opinion and Order concerning an Application for Review filed by Backyard Broadcasting Olean Licensee, LLC seeking review of a Media Bureau decision.
* The summaries listed in this notice are intended for the use of the public attending open Commission meetings. Information not summarized may also be considered at such meetings. Consequently these summaries should not be interpreted to limit the Commission's authority to consider any relevant information.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.

Sheryl D. Todd,
Deputy Secretary.

[FR Doc. 2014-18726 Filed 8-5-14; 4:15 pm]

BILLING CODE 6712-01-P